FEDERAL RESERVE SYSTEM

Notice of Proposals To Engage in or To Acquire Companies Engaged in Permissible Nonbanking Activities

Correction

In the Federal Register of May 9, 2025, FR Doc. 2025-08188, the notice “Notice of Proposals to Engage in or to Acquire Companies Engaged in Permissible Nonbanking Activities” by the Federal Reserve Bank of San Francisco, Lewis & Clark Bancorp, Oregon City, Oregon; is corrected to read “to acquire additional interests in iCashe, Inc., Portland, Oregon, and thereby continue to indirectly engage in trust company functions, printing and selling MICR-encoded items, and data processing, pursuant to sections 225.28(b)(5), 225.28(b)(10)(ii), and 225.28(b)(14), respectively, all of the Board's Regulation Y”, and that the company listed applied to the Board for approval, pursuant to section 4 of the Bank Holding Company Act (12 U.S.C. 1843) and Regulation Y (12 CFR part 225) to engage de novo, or to acquire or control voting securities or assets of a company that engages either directly or through a subsidiary or other company, in a nonbanking activity that is listed in § 225.28 of Regulation Y (12 CFR 225.28) or that the Board has determined by Order to be closely related to banking and permissible for bank holding companies. Unless otherwise noted, these activities will be conducted throughout the United States. The comment period continues to end on May 27, 2025. Interested persons may continue to view the notice and submit comments as provided in 90 FR 19717 (May 9, 2025) no later than May 27, 2025.

Board of Governors of the Federal Reserve System.
Erin Cayce,
Assistant Secretary of the Board.

[FR Doc. 2025-09342 Filed 5-22-25; 8:45 am]

BILLING CODE P